DEPARTMENT OF TRANSPORTATION

Federal Aviation Administration

14 CFR Part 39

[Docket No. 2000-NM-368-AD; Amendment 39-12008; AD 2000-24-01]

RIN 2120-AA64

Airworthiness Directives; Bombardier Model CL-600-1A11 (CL-600), CL-600-2A12 (CL-601), and CL-600-2B16 (CL-601-3A, CL-601-3R, and CL-604) Series Airplanes

AGENCY: Federal Aviation Administration, DOT.

ACTION: Final rule; request for comments.

SUMMARY: This amendment adopts a new airworthiness directive (AD) that is applicable to certain Bombardier Model CL-600-1A11 (CL-600), CL-600-2A12 (CL-601), and CL-600-2B16 (CL-601-3A, CL-601-3R, and CL-604) series airplanes. This action requires installation of protection shields in the wheel bay of the main landing gear (MLG). This action is necessary to prevent water, ice or slush accumulation on the aileron quadrants and/or control cable pulleys in the wheel bay of the MLG during ground roll. Such water, ice or slush accumulation could subsequently freeze during the climb to cruise altitude and cause stiffness in the aileron controls, which could result in reduced controllability of the airplane. This action is intended to address the identified unsafe condition.

DATES: Effective December 19, 2000.

The incorporation by reference of certain publications listed in the regulations is approved by the Director of the Federal Register as of December 19, 2000.

Comments for inclusion in the Rules Docket must be received on or before January 3, 2001.

ADDRESSES: Submit comments in triplicate to the Federal Aviation Administration (FAA), Transport Airplane Directorate, ANM-114, Attention: Rules Docket No. 2000-NM-368-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2000-NM-368-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York 11581; or at the Office of the Federal Register, 800 North Capitol Street, NW., suite 700, Washington, DC.

FOR FURTHER INFORMATION CONTACT: Dan Parillo, Aerospace Engineer, Systems and Flight Test Branch, ANE-172, FAA, New York Aircraft Certification Office, 10 Fifth Street, Third Floor, Valley Stream, New York; telephone (516) 256-7505; fax (516) 568-2716.

SUPPLEMENTARY INFORMATION: Transport Canada Civil Aviation, which is the airworthiness authority for Canada, notified the FAA that an unsafe condition may exist on certain Bombardier Model CL-600-1A11 (CL-600), CL-600-2A12 (CL-601), and CL-600-2B16 (CL-601-3A, CL-601-3R, and CL-604) series airplanes. TCCA advises that it has received several reports of stiffness in the aileron controls following takeoff from a wet or snow/slush covered runway. The cause of the stiffness has been attributed apparently to water, ice or slush accumulation on the aileron quadrants and/or control cable pulleys in the wheel bay of the main landing gear (MLG) during ground roll, which subsequently froze during the climb to cruise altitude. This condition, if not corrected, could result in stiffness in the aileron controls and consequent reduced controllability of the airplane.

Explanation of Relevant Service Information

Bombardier has issued the following service bulletins:

Bombardier service bulletin | Service bulletin date | Model
600-0684 | July 15, 1998 | CL-600-1A11 (CL-600)
601-0507 | June 30, 1998 | CL-600-2A12 (CL-601), and CL-600-2B16 (CL-601-3A and CL-601-3R)
604-32-007 | June 30, 1998 | CL-600-2B16 (CL-604)

The service bulletins describe procedures for installation of protection shields in the wheel bay of the MLG. Accomplishment of the action specified in the applicable service bulletin is intended to adequately address the identified unsafe condition. TCCA classified these service bulletins as mandatory and issued Canadian airworthiness directive CF-2000-30, dated September 12, 2000, in order to assure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Rule

Since an unsafe condition has been identified that is likely to exist or develop on other airplanes of the same type design registered in the United States, this AD is being issued to prevent water, ice or slush accumulation on the aileron quadrants and/or control cable pulleys in the wheel bay of the MLG during ground roll. Such water, ice or slush accumulation could subsequently freeze during the climb to cruise altitude and cause stiffness in the aileron controls, which could result in reduced controllability of the airplane. This AD requires accomplishment of the action specified in the service bulletins described previously.

Differences Between the AD and Foreign Airworthiness Directive

The AD would differ from the parallel Canadian airworthiness directive in that it would require accomplishment of the installation within 45 days after the effective date of this AD. The parallel Canadian airworthiness directive recommends accomplishment of the installation within 120 days after October 25, 2000 (the effective date of the Canadian airworthiness directive). In developing an appropriate compliance time for this AD, the FAA considered not only TCCA's recommendation, but the onset of inclement weather conditions, degree of urgency associated with addressing the subject unsafe condition, and average utilization of the affected fleet. In light of these factors, the FAA finds a 45-day compliance time for initiating the required installation to be warranted, in that it represents an appropriate interval of time allowable for affected airplanes to continue to operate without compromising safety.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-368-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-24-01 Bombardier, Inc. (Formerly Canadair): Amendment 39-12008. Docket 2000-NM-368-AD.

Applicability: The following airplanes, certificated in any category:

Model | Serial Nos.
CL-600-1A11 (CL-600) | 1004 though 1085 inclusive.
CL-600-2A12 (CL-601) | 3001 through 3066 inclusive.
CL-600-2B16 (CL-601-3A and CL-601-3R) | 5001 through 5194 inclusive.
CL-600-2B16 (CL-604) | 5301 through 5392 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent water, ice, or slush accumulation on the aileron quadrants and/or control cable pulleys in the wheel bay of the main landing gear (MLG) during ground roll, which could subsequently freeze during the climb to cruise altitude and cause stiffness in the aileron controls and reduced controllability of the airplane, accomplish the following:

Installation of Protection Shields

(a) Within 45 days after the effective date of this AD, install protection shields in the wheel bay of the MLG, per the following applicable Bombardier service bulletin:

Model | Bombardier service bulletin | Service bulletin date
CL-600-1A11 (CL-600) | 600-0684 | July 15, 1998
CL-600-2A12 (CL-601), and CL-600-2B16 (CL-601-3A and CL-601-3R) | 601-0507 | June 30, 1998
CL-600-2B16 (CL-604) | 604-32-007 | June 30, 1998

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with the following service bulletins, as applicable:

Bombardier service bulletin | Service bulletin date
600-0684 | July 15, 1998.
601-0507 | June 30, 1998.
604-32-007 | June 30, 1998.

This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 3: The subject of this AD is addressed in Canadian airworthiness directive CF-2000-30, dated September 12, 2000.

Effective Date

(e) This amendment becomes effective on December 19, 2000.

Issued in Renton, Washington, on November 17, 2000.
Donald L. Riggin,
Acting Manager, Transport Airplane Directorate, Aircraft Certification Service.

[FR Doc. 00-30020 Filed 12-1-00; 8:45 am]

BILLING CODE 4910-13-P